DEPARTMENT OF HOMELAND SECURITY

Transportation Security Administration

Intent To Request Renewal From OMB of One Current Public Collection of Information: Department of Homeland Security Traveler Redress Inquiry Program (DHS TRIP)

AGENCY: Transportation Security Administration, DHS.

ACTION: 60-day notice.

SUMMARY: The Transportation Security Administration (TSA) invites public comment on one currently approved Information Collection Request (ICR), Office of Management and Budget (OMB) control number 1652-0044, abstracted below that we will submit to OMB for renewal in compliance with the Paperwork Reduction Act (PRA). The ICR describes the nature of the information collection and its expected burden. The collection involves the submission of identifying and travel experience information by individuals requesting redress through the Department of Homeland Security (DHS) Traveler Redress Inquiry Program (DHS TRIP).

DATES: Send your comments by July 19, 2010.

ADDRESSES: Comments may be e-mailed to TSAPRA@dhs.gov or delivered to the TSA PRA Officer, Office of Information Technology (OIT), TSA-11, Transportation Security Administration, 601 South 12th Street, Arlington, VA 20598-6011.

FOR FURTHER INFORMATION CONTACT: Joanna Johnson at the above address, or by telephone (571) 227-3651.

SUPPLEMENTARY INFORMATION:

Comments Invited

In accordance with the Paperwork Reduction Act of 1995 (44 U.S.C. 3501 et seq.), an agency may not conduct or sponsor, and a person is not required to respond to, a collection of information unless it displays a valid OMB control number. The ICR documentation is available at http://www.reginfo.gov. Therefore, in preparation for OMB review and approval of the following information collection, TSA is soliciting comments to—

(1) Evaluate whether the proposed information requirement is necessary for the proper performance of the functions of the agency, including whether the information will have practical utility;

(2) Evaluate the accuracy of the agency's estimate of the burden;

(3) Enhance the quality, utility, and clarity of the information to be collected; and

(4) Minimize the burden of the collection of information on those who are to respond, including using appropriate automated, electronic, mechanical, or other technological collection techniques or other forms of information technology.

Information Collection Requirement

OMB Control Number 1652-0044; Department of Homeland Security (DHS) Traveler Redress Inquiry Program (DHS TRIP). DHS TRIP was developed as a voluntary program by DHS to provide a one-stop mechanism for individuals to request redress who believe they have been: (1) Denied or delayed boarding; (2) denied or delayed entry into or departure from the United States at a port of entry; or (3) identified for additional (secondary) screening at our Nation's transportation facilities, including airports, seaports, train stations and land borders. The DHS TRIP office is managed by TSA on behalf of DHS. In order for individuals to request redress, they are asked to provide identifying information as well as details of their travel experience.

The Traveler Inquiry Form (TIF) is an online form that is used to collect requests for redress by the DHS TRIP office, which serves as a centralized intake office for traveler requests to have their personal information reviewed. DHS TRIP then passes the information to the relevant DHS component to process the request, as appropriate (e.g., DHS TRIP passes the form to the appropriate DHS office to initiate the Watch List Clearance Procedure). This collection serves to distinguish misidentified individuals from an actual individual on any watch list used by DHS, and this program helps streamline and expedite future check-in or border crossing experiences.

DHS estimates completing the form, and gathering and submitting the information will take approximately one hour. The annual respondent population was derived from data compiled across all participating components (Transportation Security Administration (TSA), U.S. Customs and Border Protection (CBP), U.S. Citizenship and Immigration Services (CIS), U.S. Immigration and Customs Enforcement (ICE), U.S. Visitor and Immigration Status Indicator Technology (US-VISIT), DHS Office of Civil Rights and Civil Liberties (CRCL), DHS Privacy Office, along with the U.S. Department of State, Bureau of Consular Affairs (DoS)). Thus, the total estimated annual number of burden hours for passengers seeking redress, based on an estimated 32,495 annual respondents, is 32,495 hours (32,495 × 1).

Issued in Arlington, Virginia, on May 14, 2010.
Joanna Johnson,
TSA Paperwork Reduction Act Officer, Office of Information Technology.

[FR Doc. 2010-12010 Filed 5-18-10; 8:45 am]

BILLING CODE 9110-05-P